ENVIRONMENTAL PROTECTION AGENCY

[FRL-7398-8]

Agency Information Collection Activities: Submission for OMB Review; Comment Request, Synopses of Proposed Contract Actions and Market Research Activity

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Synopses of Proposed Contract Actions and Market Research Activity, OMB Control Number 2060-0039, expiration date December 31, 2002. The ICR describes the nature of the information collection and its expected burden and cost; where appropriate, it includes the actual data collection instrument.

DATES: Comments must be submitted on or before November 25, 2002.

ADDRESSES: Send comments, referencing EPA ICR No. 1910.02 and OMB Control No. 2030-0039, to the following addresses: Susan Auby, U.S. Environmental Protection Agency, Collection Strategies Division (Mail Code 2822T), 1200 Pennsylvania Avenue, NW., Washington, DC 20460-0001; and to Office of Information and Regulatory Affairs, Office of Management and Budget (OMB), Attention: Desk Officer for EPA, 725 17th Street, NW., Washington, DC 20503.

FOR FURTHER INFORMATION CONTACT: For a copy of the ICR contact Susan Auby at EPA by phone at (202) 566-1672, by E-Mail at auby.susan@epa.gov or download off the Internet at http://www.epa.gov/icr and refer to EPA ICR No. 1910.02, OMB No. 2030-0039. For technical questions about the ICR contact Jill Robbins at (202) 564-1052.

SUPPLEMENTARY INFORMATION: Title: Synopses of Proposed Contract Actions and Market Research Activity, OMB Control Number 2060-0039, EPA ICR Number 1910.02, expiration date December 31, 2002. This is a request for extension of a currently approved collection.

Abstract: EPA's Office of Acquisition Management is required by the Federal Acquisition Regulation (FAR), parts 5 and 10, to publicize certain contract actions, and to conduct market research activity prior to solicitation of certain contract requirements. In addition to the mandated requirements, the FAR encourages the publication of contract actions and the conduct of market research in other instances. The information collected from these activities is used to make procurement decisions such as: the supply or service to procure, which sources to utilize, extent of small business participated, contract type, etc. Response to synopses notices and market research inquiries are voluntary, but may be required in order to be considered for the award of an Agency contract.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on 07/05/2002, 67 FR 44828. No comments were received.

Burden Statement: The annual public reporting and recordkeeping burden for this collection of information is estimated to average 2.75 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Businesses involved in EPA Procurement.

Estimated Number of Respondents: 9,746.

Frequency of Response: One time.

Estimated Total Annual Hour Burden: 28,316.

Estimated Total Annualized Capital, O&M Cost Burden: $0.

Send comments on the Agency's need for this information, the accuracy of the provided burden estimates, and any suggested methods for minimizing respondent burden, including through the use of automated collection techniques to the addresses listed above. Please refer to EPA ICR No. 1910.02 and OMB Control No. 2030-0039 in any correspondence.

Dated: October 15, 2002.
Oscar Morales, Director,
Collection Strategies Division.

[FR Doc. 02-27138 Filed 10-23-02; 8:45 am]

BILLING CODE 6560-50-P